DEPARTMENT OF TRANSPORTATION

National Highway Traffic Safety Administration

Petition for Exemption From the Vehicle Theft Prevention Standard; Nissan

AGENCY: National Highway Traffic Safety Administration (NHTSA) Department of Transportation (DOT).

ACTION: Grant of petition for exemption.

SUMMARY: This document grants in full the Nissan North America, Inc.'s (Nissan) petition for an exemption of the Murano vehicle line in accordance with 49 CFR Part 543, Exemption from the Theft Prevention Standard. This petition is granted because the agency has determined that the antitheft device to be placed on the line as standard equipment is likely to be as effective in reducing and deterring motor vehicle theft as compliance with the parts-marking requirements of the Theft Prevention Standard (49 CFR Part 541). Nissan requested confidential treatment for the information and attachments it submitted in support of its petition. The agency will address Nissan's request for confidential treatment by separate letter.

DATES: The exemption granted by this notice is effective beginning with the 2010 model year.

FOR FURTHER INFORMATION CONTACT: Ms. Rosalind Proctor, Office of International Policy, Fuel Economy and Consumer Programs, NHTSA, West Building, W43-302, 1200 New Jersey Avenue, SE., Washington, DC 20590. Ms. Proctor's phone number is (202) 366-0846. Her fax number is (202) 493-0073.

SUPPLEMENTAL INFORMATION: In a petition dated December 19, 2008, Nissan requested exemption from the parts-marking requirements of the theft prevention standard (49 CFR Part 541) for the MY 2010 Nissan Murano vehicle line. The petition requested an exemption from parts-marking pursuant to 49 CFR 543, Exemption from Vehicle Theft Prevention Standard, based on the installation of an antitheft device as standard equipment for the entire vehicle line.

Under § 543.5(a), a manufacturer may petition NHTSA to grant an exemption for one vehicle line per model year. In its petition, Nissan provided a detailed description and diagram of the identity, design, and location of the components of the antitheft device for the new Murano vehicle line. Although specific details of the system's operation, design, effectiveness and durability have been accorded confidential treatment, NHTSA is, for the purposes of this petition, disclosing the following general information. Nissan will install a passive, transponder-based, electronic engine immobilizer device as standard equipment on its Murano line beginning with MY 2010. Nissan stated that the immobilizer system prevents normal operation of the vehicle without the use of a special key. Turning off the ignition key automatically activates the immobilizer device. Features of the antitheft device will include an engine electronic control module (ECM), immobilizer control (BCM), antenna and transponder key. Nissan also stated that its device will not incorporate an audible and visual alarm feature as standard equipment, but the alarms will be incorporated on some of its models. Nissan's submission is considered a complete petition as required by 49 CFR 543.7, in that it meets the general requirements contained in 543.5 and the specific content requirements of 543.6.

In addressing the specific content requirements of 543.6, Nissan provided information on the reliability and durability of its proposed device. To ensure reliability and durability of the device, Nissan conducted tests based on its own specified standards. Nissan provided its own test information on the reliability and durability of its proposed device and believes that the device is reliable and durable since the device complied with its specific requirements for each test. Additionally, Nissan has incorporated a “Security” indicator light in the vehicle which will provide a signal to inform the vehicle owner as to the status of the immobilizer device. When the ignition key is turned to the “OFF” position, the indicator light begins flashing to reliably notify the operator that the immobilizer device is activated.

Nissan compared the device proposed for its vehicle line with other devices which NHTSA has determined to be as effective in reducing and deterring motor vehicle theft as would compliance with the parts-marking requirements. Nissan stated that its antitheft device is technologically superior and at least as effective as those devices in the lines for which NHTSA has already granted full exemption from the parts-marking requirements.

Nissan stated that NHTSA's theft data have shown a significant reduction in theft rates for vehicle lines that have been equipped with antitheft devices similar to that which Nissan proposes to install on the new line. Specifically, Nissan stated that it believes that its proposed device is technologically superior to devices installed on the Buick Riviera and Oldsmobile Aurora vehicle lines, which have already been granted a parts-marking exemption by the agency. Nissan concludes that the data indicates that the immobilizer was effective in contributing to the theft rate reduction for these lines. Nissan stated that it believes the device it proposes to install on the MY 2010 Murano will be at least effective as those systems. By supplemental letter dated May 22, 2009, Nissan provided further support of its belief that its proposed device is at least as effective as other similar devices installed in vehicle lines for which the agency has granted exemptions. Specifically, Nissan referenced information provided by the National Insurance Crime Bureau, which showed a 70% reduction in theft when comparing the MY 1987 Ford Mustang with a standard immobilizer to the MY 1995 Ford Mustang without an immobilizer. Additionally, Nissan referenced data from the Highway Loss Data Institute which showed that BMW vehicles experienced theft loss reductions resulting in a 73% decrease in relative claim frequency and a 78% lower average loss payment per claim for vehicles equipped with an immobilizer. Nissan also stated that its Nissan Pathfinder vehicles experienced a significant theft rate reduction from MY 2000 to 2001 with the implementation of an engine immobilizer system as standard equipment. Specifically, the theft rate dropped from 3.0363 in MY 2000 to 1.9146 in MY 2001. The MY 2006 theft rate for the Nissan Pathfinder is 1.3474, still significantly below the median theft rate of 3.5826.

The agency agrees that the device is substantially similar to devices in other vehicle lines for which the agency has already granted exemptions. Based on the evidence submitted by Nissan, the agency believes that the antitheft device for the Murano vehicle line is likely to be as effective in reducing and deterring motor vehicle theft as compliance with the parts-marking requirements of the Theft Prevention Standard (49 CFR Part 541).

Pursuant to 49 U.S.C. 33106 and 49 CFR 543.7(b), the agency grants a petition for an exemption from the parts-marking requirements of part 541 either in whole or in part, if it determines that, based upon substantial evidence, the standard equipment antitheft device is likely to be as effective in reducing and deterring motor vehicle theft as compliance with the parts-marking requirements of part 541. The agency finds that Nissan has provided adequate reasons for its belief that the antitheft device will reduce and deter theft. This conclusion is based on the information Nissan provided about its device.

The agency concludes that the device will provide the four types of performance listed in § 543.6(a)(3): promoting activation; preventing defeat or circumvention of the device by unauthorized persons; preventing operation of the vehicle by unauthorized entrants; and ensuring the reliability and durability of the device.

For the foregoing reasons, the agency hereby grants in full Nissan's petition for exemption for the Murano vehicle line from the parts-marking requirements of 49 CFR Part 541, beginning with the 2010 model year vehicles. The agency notes that 49 CFR Part 541, Appendix A-1, identifies those lines that are exempted from the Theft Prevention Standard for a given model year. 49 CFR Part 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If Nissan decides not to use the exemption for this line, it must formally notify the agency. If such a decision is made, the line must be fully marked according to the requirements under 49 CFR Parts 541.5 and 541.6 (marking of major component parts and replacement parts).

NHTSA notes that if Nissan wishes in the future to modify the device on which this exemption is based, the company may have to submit a petition to modify the exemption. Part 543.7(d) states that a Part 543 exemption applies only to vehicles that belong to a line exempted under this part and equipped with the anti-theft device on which the line's exemption is based. Further, § 543.9(c)(2) provides for the submission of petitions “to modify an exemption to permit the use of an antitheft device similar to but differing from the one specified in that exemption.”

The agency wishes to minimize the administrative burden that Part 543.9(c)(2) could place on exempted vehicle manufacturers and itself. The agency did not intend Part 543 to require the submission of a modification petition for every change to the components or design of an antitheft device. The significance of many such changes could be de minimis. Therefore, NHTSA suggests that if the manufacturer contemplates making any changes the effects of which might be characterized as de minimis, it should consult the agency before preparing and submitting a petition to modify.

Authority: 49 U.S.C. 33106; delegation of authority at 49 CFR 1.50.

Issued on: June 12, 2009.
Stephen R. Kratzke,
Associate Administrator for Rulemaking.

[FR Doc. E9-14253 Filed 6-16-09; 8:45 am]

BILLING CODE 4910-59-P